SECURITIES AND EXCHANGE COMMISSION

Sunshine Act Meetings

Notice is hereby given, pursuant to the provisions of the Government in the Sunshine Act, Public Law 94-409, that the Securities and Exchange Commission will hold the following meetings during the week of May 22, 2006: An Open Meeting will be held on Monday, May 22, 2006 at 10 a.m. in the Auditorium, Room LL-002 and Closed Meetings will be held on Monday, May 22, 2006 at 11 a.m. and on Thursday, May 25, 2006 at 2 p.m.

Commissioners, Counsel to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (8), (9)(B), (10) and 17 CFR 200.402(a)(3), (5), (7), (8), (9)(ii), and (10) permit consideration of the scheduled matters at the Closed Meeting.

Commissioner Nazareth, as duty officer, voted to consider the items listed for the closed meetings in closed session, and determined that no earlier notice thereof was possible.

The subject matter of the Open Meeting scheduled for Monday, May 22, 2006 will be: The Commission will hear oral argument in an appeal by Gateway International Holdings, Inc., and its president and chief executive officer, Lawrence A. Consalvi, from an administrative law judge's decision. The law judge found that Gateway failed to file with the Commission a total of seven annual and quarterly reports due between May 2003 and December 2004, and that, by doing so, Gateway violated Section 13(a) of the Securities Exchange Act of 1934 and Rules 13a-1 and 13a-13 thereunder. The law judge also found that Consalvi caused Gateway's violations. The law judge revoked the registration of Gateway's common stock and ordered Consalvi to cease and desist from committing or causing any violations or future violations of Exchange Act Section 13(a) and Exchange Act Rules 13a-1 and 13a-3. Among the issues likely to be argued is whether and to what extent sanctions should be imposed on Respondents.

The subject matter of the Closed Meeting scheduled for Monday, May 22, 2006 will be: Post-argument discussion.

The subject matter of the Closed Meeting scheduled for Thursday, May 25, 2006 will be: Formal orders of investigation; Institution and settlement of injunctive actions; Institution and settlement of administrative proceedings of an enforcement nature; Request for information in an investigative file; Resolution of litigation claims; and Litigation matters.

At times, changes in Commission priorities require alterations in the scheduling of meeting items.

For further information and to ascertain what, if any, matters have been added, deleted or postponed, please contact: The Office of the Secretary at (202) 551-5400.

Dated: May 16, 2006.
Jill M. Peterson,
Assistant Secretary.

[FR Doc. 06-4706 Filed 5-16-06; 3:52 pm]

BILLING CODE 8010-01-P